PRESIDIO TRUST

The Presidio of San Francisco, California; Notice of Availability of the Presidio Trust Management Plan and Final Environmental Impact Statement

AGENCY: The Presidio Trust.

ACTION: Notice of availability of the Presidio Trust Management Plan (PTMP): Land Use Policies for Area B of The Presidio of San Francisco and associated Final Environmental Impact Statement (EIS). The PTMP (formerly known as the Presidio Trust Implementation Plan or PTIP) is an update to the July 1994 Final General Management Plan Amendment (GMPA) for the portion of The Presidio of San Francisco (Presidio) now under the Presidio Trust's (Trust's) jurisdiction (Area B). The PTMP EIS supplements the GMPA Environmental Impact Statement adopted by the National Park Service (NPS) for the Presidio in 1994.

Contents of Final EIS: Volume I of the Final EIS contains the text of the Final EIS with a summary of changes made in response to comments on the Draft EIS. Major impact topics assessed in Volume I include historic resources, cultural landscape, archaeology, biological resources, water resources, visual resources, air quality, noise, land use, socioeconomic issues, visitor experience, recreation, public safety, transportation, water supply, utilities and Trust operations. Volume II contains a summary of the public and agency comments received on the Draft EIS, along with written responses to those comments. Volume III contains technical appendices related to the EIS analyses.

Background: The Trust has prepared a Final EIS in compliance with the National Environmental Policy Act (NEPA), the Council on Environmental Quality's implementing regulations at 40 CFR Parts 1500-1508, and the Trust's supplemental implementing regulations in 36 CFR Part 1010. The Final EIS describes and analyzes a proposed action (Final Plan), a variant of the Final Plan alternative, and five additional alternatives to address Presidio Trust Act (Trust Act) requirements, changed conditions since the GMPA was adopted, new policies and management approaches of the Trust, and public comment on the Draft Plan and Draft EIS. The Draft Plan and EIS were circulated for public and agency review from July 25, 2001 to October 25, 2001, a period of about 90 days. During this period, the Trust received over 3,000 comment letters, as well as oral comments provided at two public hearings and at a public meeting of the Golden Gate National Recreation Area and Point Reyes National Seashore Citizens' Advisory Commission. The Trust carefully considered public comments, and made modifications to the text of the Draft Plan and EIS. Modifications included re-naming and substantially revising the text of the Draft Plan, along with inclusion of the Final Plan variant in the EIS and other modest adjustments to the text and analysis of the EIS. Original comment letters and transcripts are available for review in the Trust library, 34 Graham Street, in the Presidio.

Under the Trust Act, as amended, Congress created the Trust to manage Area B so as to make it financially self-sufficient by year 2013 and to protect Area B's resources by ensuring long-term financial sustainability. Each of the alternatives summarized below and presented in the Final EIS achieves Trust Act goals to varying degrees and has a different emphasis. Principal differences among alternatives include the proposed total building square footage, the proposed amount of non-residential and residential uses, the amount of open space, the proposed plan vision and method of delivery of public programs. The maximum overall square footage of 5,960,000 allowed under the Trust Act would not be exceeded under any alternative.

GMPA 2000 Alternative—The GMPA 2000 or “no action” alternative would implement the 1994 GMPA assuming current (year 2000) conditions. Buildings would be removed to increase open space and enhance natural resources, and available housing would decrease substantially. Tenants with a mission related to environmental, social or cultural concerns would offer public programs related to their business mission.

Final Plan Alternative—Under the Final Plan or the Trust's “preferred” alternative, the Trust would preserve and enhance the park resources for public use. Housing units would be removed to increase open space and would be replaced through a combination of subdivision, conversion and possible new construction. The Trust would collaborate with partners, including the NPS, tenants and residents, to provide park programs. A broader mix of tenants would be permitted than under the GMPA 2000 alternative to meet the policy goals of the Plan.

Final Plan Variant—The Final Plan variant is consistent with a detailed Sierra Club proposal. Its land use proposals are similar to the Final Plan alternative, except for greater building demolition and therefore less total built space as well as a prohibition on replacing demolished structures through new construction. The Final Plan variant emphasizes the replacement of removed housing units by converting existing buildings.

Resource Consolidation Alternative—Under the Resource Consolidation alternative, the Presidio would become an enhanced open space haven in the center of urban surroundings by maximizing open space in the southern part of the park through the removal of historic and non-historic structures, and concentrating built space in the northern part of the park. Open space and natural resource enhancements would be maximized.

Sustainable Community Alternative—Under the Sustainable Community alternative, the Presidio would become a sustainable live/work community in a park setting with a small decrease in housing units, would retain its present dispersed pattern of development, and would emphasize building reuse and rehabilitation.

Cultural Destination Alternative—Under the Cultural Destination alternative, the Presidio would become a national and international destination park by providing robust public programming delivered through the Trust. A substantial level of building demolition in the southern part of the park would be replaced in the northern part of the park to provide an increase in and improved mix of housing, and to cluster housing near work and transit.

Minimum Management Alternative—Under the Minimum Management alternative, there would be no significant physical change beyond that already underway, and the Presidio would be minimally managed to meet legal requirements.

Materials Available to the Public: Copies of the PTMP and Final EIS will be available at the public meeting of the Trust Board of Directors on May 21, 2002, and will be available thereafter by calling or writing the Presidio Trust, 34 Graham Street, Post Office Box 29052, San Francisco, CA 94129-0052. Telephone: 415/561-5414. The complete PTMP and Final EIS will be available electronically on the Trust's website (www.presidiotrust.gov) and on CD-ROM after May 21, 2002. The PTMP and Final EIS may also be reviewed after May 21, 2002, in the Trust's library at the above address or in local libraries.

Public Meeting: As previously announced on April 26, 2002 (67 FR 20846), information on the PTMP and Final EIS will be presented at the public meeting of the Trust Board of Directors on May 21, 2002, at the Officers' Club, 50 Moraga Avenue at Arguello Boulevard (Main Post), Presidio of San Francisco, California, from 6 p.m. to 9 p.m.

Limitation on Action: Following distribution of the Final EIS, and following the 30-day “no action” period required under the NEPA, the Trust Board of Directors will consider adoption of the Final Plan. The Board's action could include, but is not limited to, adoption of the preferred alternative (the Final Plan), rejection of all alternatives, and/or partial or conditional approval of a particular alternative. The Board's action, through a Record of Decision, will describe the scope and basis of the decision, the mitigations or conditions upon which it is contingent, and how the Final EIS will be used in subsequent decision-making.

FOR FURTHER INFORMATION CONTACT: John Pelka, NEPA Compliance Manager, the Presidio Trust, 34 Graham Street, P.O. Box 29052, San Francisco, CA 94129-0052. Telephone: 415/561-5414.

Dated: May 7, 2002.
Karen A. Cook,
General Counsel.

[FR Doc. 02-11831 Filed 5-10-02; 8:45 am]

BILLING CODE 4310-4R-P